DEPARTMENT OF THE INTERIOR

Bureau of Land Management

[AK-932-1430-ET; F-22389]

Notice of Proposed Withdrawal Extension and Opportunity for Public Meeting; Alaska

AGENCY: Bureau of Land Management, Interior.

ACTION: Notice.

SUMMARY: On behalf of the U.S. Department of Air Force, the Bureau of Land Management proposes to extend the duration of Public Land Order (PLO) No. 6677 for an additional 20-year term. This order withdrew 2.5 acres of public land from settlement, sale, location, or entry under the general land laws, including the United States mining laws [30 U.S.C. Ch. 2] and from leasing under the mineral leasing laws, to protect a United States Air Force radio relay site. This notice also gives an opportunity to comment on the proposed action and to request a public meeting.

DATES: Comments and requests for a public meeting must be received by November 19, 2007.

ADDRESSES: Comments and meeting requests should be sent to the Alaska State Director, BLM Alaska State Office, 222 West 7th Avenue, No. 13, Anchorage, Alaska 99513-7504.

FOR FURTHER INFORMATION CONTACT: Renee Fencl, BLM Alaska State Office, (907) 271-5067, or at the above address.

SUPPLEMENTARY INFORMATION: The withdrawal created by PLO No. 6677 (53 FR 18283) will expire May 22, 2008, unless extended. The U.S. Department of the Air Force has filed an application to extend the withdrawal for an additional 20-year period to protect the Beaver Creek Radio Relay Site.

This withdrawal comprises 2.50 acres of public land described in PLO No. 6677 (53 FR 18283) and located in:

Copper River Meridian

T. 15 N., R. 19 E.

Secs. 21 and 28.

A complete description can be provided by the BLM Alaska State Office at the address shown above.

As extended, the withdrawal would not alter the application of those public land laws governing the use of land under lease, license, or permit or governing the disposal of the mineral or vegetative resources other than under the mining and mineral leasing laws. No water rights would be needed to fulfill the purpose of the requested withdrawal extension.

For a period of 90 days from the date of publication of this notice, all persons who wish to submit comments, suggestions, or objections in connection with the proposed withdrawal extension may present their views in writing to the BLM State Director at the address indicated above. Comments, including names and street addresses of respondents, will be available for public review at the BLM Alaska Office at the address noted above during regular business hours 7:30 a.m. to 4:30 p.m., Monday through Friday, except holidays. Before including your address, phone number, e-mail address, or other personal identifying information in your comments, be advised that your entire comment—including your personal identifying information—may be made publicly available at any time. While you can ask us in your comment to withhold from public review your personal identifying information, we cannot guarantee that we will be able to do so.

Notice is hereby given that an opportunity for a public meeting is afforded in connection with the proposed withdrawal extension. All interested parties who desire a public meeting for the purpose of being heard on the proposed withdrawal must submit a written request to the BLM State Director at the address indicated above within 90 days from the publication of this notice. Upon determination by the authorized officer that a public meeting will be held, a notice of the time and place will be published in the Federal Register at least 30 days before the scheduled date of the meeting. The withdrawal extension proposal will be processed in accordance with the regulations set forth in 43 CFR 2310.4 and subject to Section 810 of the Alaska National Interest Lands Conservation Act, 16 U.S.C. 3120 (2000).

(Authority: 43 CFR 2310.3-1)

Carolyn J. Spoon,
Chief, Branch of Lands and Realty.

[FR Doc. E7-16357 Filed 8-20-07; 8:45 am]

BILLING CODE 4310-JA-P